DEPARTMENT OF LABOR

Bureau of International Labor Affairs; National Advisory Committee for Labor Provisions of U.S. Free Trade Agreements; Notice of Reestablishment

In accordance with the provisions of the Federal Advisory Committee Act, Article 17 of the North American Agreement on Labor Cooperation (NAALC), Article 17.4 of the United States—Singapore Free Trade Agreement, and Article 18.4 of the United States—Chile Free Trade Agreement, and Article 18.4 of the United States—Australia Free Trade Agreement, the Secretary of Labor has determined that the issuance of the charter of the National Advisory Committee for Labor Provisions of U.S. Free Trade Agreements, formerly the National Advisory Committee for the North American Agreement on Labor Cooperation, is necessary and in the public interest.

The Bureau of International Labor Affairs is the point of contact within the U.S. Department of Labor for the NAALC and the labor provisions of the United States—Singapore, United States—Chile, and United States—Australia Free Trade Agreements.

The committee shall provide its views to the Secretary of Labor through the Bureau of International Labor Affairs of the U.S. Department of Labor on the implementation of the NAALC and the labor chapters of the United States—Singapore Free Trade Agreement, the United States—Chile Free Trade Agreement, and the United States—Australia Free Trade Agreement. The committee may be asked to provide advice on labor provisions of other free trade agreements to which the United States may be a party or become a party. The committee should provide advice on issues within the scope of the NAALC and the labor provisions of the free trade agreements, including cooperative activities and the labor cooperation mechanism of each free trade agreement as established in the labor provisions and the corresponding annexes. The committee may provide advice on these and other matters as they arise in the course of administering the NAALC and the labor provisions of other free trade agreements to which the United States may be a party or become a party.

The committee is to be comprised of twelve members, four representing the labor community, four representing the business community, and four representing the public. Unless already employees of the United States Government, none of these members shall be deemed to be employees of the United States Government.

Persons seeking additional information may contact the Office of Trade Agreement Implementation, Bureau of International Labor Affairs, U.S. Department of Labor, telephone (202) 693-4900.

Signed in Washington DC, this 18th day of March, 2005.
Elaine L. Chao,
Secretary of Labor.

[FR Doc. 05-5805 Filed 3-23-05; 8:45 am]

BILLING CODE 4510-28-P